DEPARTMENT OF ENERGY

Federal Energy Regulatory Commission

[Project No. 2479-010]

Pacific Gas and Electric Company; Errata Notice

May 6, 2008.

On March 25, 2008, the Commission issued a “Notice of Intent to File License Application, Filing of Pre-Application Document, Commencement of Licensing Proceeding, Scoping, Solicitation of Comments on the PAD and Scoping Document, and Identification of Issues and Associated Study Requests” in the above-referenced proceeding. Paragraph (o) of the notice stated an incorrect due date and should read as follows:

o. With this notice, we are soliciting comments on the PAD and Scoping Document 1 (SD1), as well as study requests. All comments on the PAD and SD1, and study requests should be sent to the address above in paragraph (h). In addition, all comments on the PAD and SD1, study requests, requests for cooperating agency status, and all communications to and from Commission staff related to the merits of the potential application (an original and eight copies) must be filed with the Commission at the following address: Kimberly D. Bose, Secretary, Federal Energy Regulatory Commission, 888 First Street, NE., Washington, DC 20426. All filings with the Commission must include on the first page, the project name (French Meadows Transmission Line Project) and number (P-2479-010), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by May 27, 2008.

Kimberly D. Bose,
Secretary.

[FR Doc. E8-10615 Filed 5-12-08; 8:45 am]

BILLING CODE 6717-01-P